DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2014

AGENCY: Office of the Secretary, USDA.

ACTION: Semiannual regulatory agenda.

SUMMARY: This agenda provides summary descriptions of significant and not significant regulations being developed in agencies of the U.S. Department of Agriculture (USDA) in conformance with Executive Orders (EO) 12866 “Regulatory Planning and Review” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important significant regulatory actions and a Statement of Regulatory Priorities are included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: September 29, 2014.
Michael Poe,
Chief, Legislative and Regulatory Staff.

Agricultural Marketing Service—Proposed Rule Stage
Sequence No. | Title | Regulation Identifier No.
160 | National Organic Program, Origin of Livestock, NOP-11-0009 (Reg Plan Seq No. 1) | 0581-AD08
161 | National Organic Program, Organic Pet Food Standards (Reg Plan Seq No. 2) | 0581-AD20
162 | National Organic Program, Organic Apiculture Practice Standard, NOP-12-0063 (Reg Plan Seq No. 3) | 0581-AD31
163 | National Organic Program—Organic Aquaculture Standards (Reg Plan Seq No. 4) | 0581-AD34
164 | Exemption of Producers and Handlers of Organic Products From Assessment Under a Commodity Promotion Law (Reg Plan Seq No. 5) | 0581-AD37
References in boldface appear in The Regulatory Plan in part II of this issue of the Federal Register.

Agricultural Marketing Service—Completed Actions
Sequence No. | Title | Regulation Identifier No.
165 | User Fees for 2014 Crop Cotton Classification Services to Growers | 0581-AD35

Animal and Plant Health Inspection Service—Proposed Rule Stage
Sequence No. | Title | Regulation Identifier No.
166 | Introduction of Organisms and Products Altered or Produced Through Genetic Engineering | 0579-AC31
167 | Scrapie in Sheep and Goats | 0579-AC92
168 | Plant Pest Regulations; Update of General Provisions | 0579-AC98
169 | Bovine Spongiform Encephalopathy and Scrapie; Importation of Small Ruminants and Their Germplasm, Products, and Byproducts | 0579-AD10
170 | Brucellosis and Bovine Tuberculosis; Update of General Provisions (Reg Plan Seq No. 9) | 0579-AD65
171 | Establishing a Performance Standard for Authorizing the Importation and Interstate Movement of Fruits and Vegetables (Reg Plan Seq No. 10) | 0579-AD71
References in boldface appear in The Regulatory Plan in part II of this issue of the Federal Register.

Animal and Plant Health Inspection Service—Final Rule Stage
Sequence No. | Title | Regulation Identifier No.
172 | Importation of Poultry and Poultry Products From Regions Affected With Highly Pathogenic Avian Influenza | 0579-AC36
173 | Importation of Wood Packaging Material From Canada | 0579-AD28
174 | Importation of Beef From a Region in Brazil | 0579-AD41
175 | Treatment of Firewood and Spruce Logs Imported From Canada | 0579-AD60

Animal and Plant Health Inspection Service—Completed Actions
Sequence No. | Title | Regulation Identifier No.
176 | Importation of Live Dogs | 0579-AD23
177 | Importation of Female Squash Flowers From Israel Into the Continental United States | 0579-AD72

Rural Housing Service—Final Rule Stage
Sequence No. | Title | Regulation Identifier No.
178 | Guaranteed Single-Family Housing | 0575-AC18

Food and Nutrition Service—Proposed Rule Stage
Sequence No. | Title | Regulation Identifier No.
179 | Child and Adult Care Food Program: Meal Pattern Revisions Related to the Healthy, Hunger-Free Kids Act of 2010 (Reg Plan Seq No. 15) | 0584-AE18
References in boldface appear in The Regulatory Plan in part II of this issue of the Federal Register.

Food and Nutrition Service—Final Rule Stage
Sequence No. | Title | Regulation Identifier No.
180 | Child Nutrition Programs: Local School Wellness Policy Implementation Under the Healthy, Hunger-Free Kids Act of 2010 (Reg Plan Seq No. 18) | 0584-AE25
References in boldface appear in The Regulatory Plan in part II of this issue of the Federal Register.

Food Safety and Inspection Service—Final Rule Stage
Sequence No. | Title | Regulation Identifier No.
181 | Mandatory Inspection of Fish of the order Siluriformes and Products Derived From Such Fish (Reg Plan Seq No. 21) | 0583-AD36
References in boldface appear in The Regulatory Plan in part II of this issue of the Federal Register.

Food Safety and Inspection Service—Completed Actions
Sequence No. | Title | Regulation Identifier No.
182 | Change in Accredited Lab Fees | 0583-AD55

Forest Service—Proposed Rule Stage
Sequence No. | Title | Regulation Identifier No.
183 | Management of Surface Activities Associated With Outstanding Mineral Rights on National Forest System Lands | 0596-AD03

Forest Service—Final Rule Stage
Sequence No. | Title | Regulation Identifier No.
184 | Ski Area—D Clauses: Resource and Improvement Protection, Water Facilities and Water Rights | 0596-AD14

DEPARTMENT OF AGRICULTURE (USDA)

Agricultural Marketing Service (AMS)

Proposed Rule Stage

160. National Organic Program, Origin of Livestock, NOP-11-0009

Regulatory Plan: This entry is Seq. No. 1 in part II of this issue of the Federal Register.

RIN: 0581-AD08

161. National Organic Program, Organic Pet Food Standards

Regulatory Plan: This entry is Seq. No. 2 in part II of this issue of the Federal Register.

RIN: 0581-AD20

162. National Organic Program, Organic Apiculture Practice Standard, NOP-12-0063

Regulatory Plan: This entry is Seq. No. 3 in part II of this issue of the Federal Register.

RIN: 0581-AD31

163. • National Organic Program—Organic Aquaculture Standards

Regulatory Plan: This entry is Seq. No. 4 in part II of this issue of the Federal Register.

RIN: 0581-AD34

164. • Exemption of Producers and Handlers of Organic Products From Assessment Under a Commodity Promotion Law

Regulatory Plan: This entry is Seq. No. 5 in part II of this issue of the Federal Register.

RIN: 0581-AD37

DEPARTMENT OF AGRICULTURE (USDA)

Agricultural Marketing Service (AMS)

Completed Actions

165. • User Fees for 2014 Crop Cotton Classification Services to Growers

Legal Authority: 7 U.S.C. 471 to 476

Abstract: The Department is required to announce the adjusted fee by June 1 each year, and it must be set at a sufficient level to recover the full costs of providing services. To meet the mandate that cotton growers pay a uniform fee that truly covers USDA's estimated cost of providing grading services, revenues and costs associated with classification services that will be provided during the 2014 crop year must be estimated. The user fee represents less than 1 percent of the average value of a bale of cotton, the cotton classing user fee has remained the same since 2009, and the publication of user fee adjustments over the past 10 years has generated no significant public comment.

Timetable:

Action | Date | FR Cite
Final Rule | 05/14/14 | 79 FR 27479
Final Rule Effective | 07/01/14

Regulatory Flexibility Analysis Required: Yes.

Agency Contact: Darryl W. Earnest, Deputy Administrator, Department of Agriculture, Agricultural Marketing Service, 14th & Independence Avenue SW., Room 2639—South Building, Washington, DC 20250, Phone: 202 720-3193, Fax: 202 690-1718, Email: darryl.earnest@usda.gov..

RIN: 0581-AD35

BILLING CODE 3410-02-P

DEPARTMENT OF AGRICULTURE (USDA)

Animal and Plant Health Inspection Service (APHIS)

Proposed Rule Stage

166. Introduction of Organisms and Products Altered or Produced Through Genetic Engineering

Legal Authority: 7 U.S.C. 7701 to 7772; 7 U.S.C. 7781 to 7786; 31 U.S.C. 9701

Abstract: This rulemaking will amend the regulations regarding the importation, interstate movement, and environmental release of certain genetically engineered organisms. This rule will affect persons involved in the importation, interstate movement, or release into the environment of genetically engineered plants and certain other genetically engineered organisms.

Timetable:

Action | Date | FR Cite
Notice of Intent to Prepare an Environmental Impact Statement | 01/23/04 | 69 FR 3271
Comment Period End | 03/23/04 |
Notice of Availability of Draft Environmental Impact Statement | 07/17/07 | 72 FR 39021
Comment Period End | 09/11/07 |
NPRM | 10/09/08 | 73 FR 60007
NPRM Comment Period End | 11/24/08
Correction | 11/10/08 | 73 FR 66563
NPRM Comment Period Reopened | 01/16/09 | 74 FR 2907
NPRM Comment Period End | 03/17/09 |
NPRM; Notice of Public Scoping Session | 03/11/09 | 74 FR 10517
NPRM Comment Period Reopened | 04/13/09 | 74 FR 16797
NPRM Comment Period End | 06/29/09
NPRM; Withdrawal | 11/00/14
NPRM; Withdrawal Effective | 11/00/14

Regulatory Flexibility Analysis Required: Yes.

Agency Contact: Andrea Huberty, Branch Chief, Regulatory and Environmental Analysis, BRS, Department of Agriculture, Animal and Plant Health Inspection Service, 4700 River Road, Unit 146, Riverdale, MD 20737-1236, Phone: 301 851-3880.

RIN: 0579-AC31

167. Scrapie in Sheep and Goats

Legal Authority: 7 U.S.C. 8301 to 8317

Abstract: This rulemaking would amend the scrapie regulations by changing the risk groups and categories established for individual animals and for flocks. It would simplify, reduce, or remove certain recordkeeping requirements. This action would provide designated scrapie epidemiologists with more alternatives and flexibility when testing animals in order to determine flock designations under the regulations. It would also make the identification and recordkeeping requirements for goat owners consistent with those for sheep owners. These changes would affect sheep and goat producers and State governments.

Timetable:

Action | Date | FR Cite
NPRM | 12/00/14
NPRM Comment Period End | 02/00/15

Regulatory Flexibility Analysis Required: Yes.

Agency Contact: Diane Sutton, National Scrapie Program Coordinator, Ruminant Health Programs, NCAHP, VS, Department of Agriculture, Animal and Plant Health Inspection Service, 4700 River Road, Unit 43, Riverdale, MD 20737-1235, Phone: 301 851-3509.

RIN: 0579-AC92

168. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332

Abstract: We are proposing to revise our regulations regarding the movement of plant pests. We are proposing to regulate the movement of not only plant pests, but also biological control organisms and associated articles. We are proposing risk-based criteria regarding the movement of biological control organisms, and are proposing to establish regulations to allow the movement in interstate commerce of certain types of plant pests without restriction by granting exceptions from permitting requirements for those pests. We are also proposing to revise our regulations regarding the movement of soil and to establish regulations governing the biocontainment facilities in which plant pests, biological control organisms, and associated articles are held. This proposed rule replaces a previously published proposed rule, which we are withdrawing as part of this document. This proposal would clarify the factors that would be considered when assessing the risks associated with the movement of certain organisms, facilitate the movement of regulated organisms and articles in a manner that also protects U.S. agriculture, and address gaps in the current regulations.

Timetable:

Action | Date | FR Cite
Notice of Intent To Prepare an Environmental Impact Statement | 10/20/09 | 74 FR 53673
Notice Comment Period End | 11/19/09
NPRM | 04/00/15
NPRM Comment Period End | 06/00/15

Regulatory Flexibility Analysis Required: Yes.

Agency Contact: Shirley Wager-Page, Chief, Pest Permitting Branch, Plant Health Programs, PPQ, Department of Agriculture, Animal and Plant Health Inspection Service, 4700 River Road, Unit 131, Riverdale, MD 20737-1236, Phone: 301 851-2323.

RIN: 0579-AC98

169. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 03/00/15
NPRM Comment Period End | 05/00/15

Regulatory Flexibility Analysis Required: Yes.

Agency Contact: Peter Merrill, Assistant Director, Technical Trade Services, National Center for Import and Export, VS, Department of Agriculture, Animal and Plant Health Inspection Service, 4700 River Road, Unit 39, Riverdale, MD 20737-1231, Phone: 301 851-3300.

RIN: 0579-AD10

170. Brucellosis and Bovine Tuberculosis; Update of General Provisions

Regulatory Plan: This entry is Seq. No. 9 in part II of this issue of the Federal Register.

RIN: 0579-AD65

171. Establishing a Performance Standard for Authorizing the Importation and Interstate Movement of Fruits and Vegetables

Regulatory Plan: This entry is Seq. No. 10 in part II of this issue of the Federal Register.

RIN: 0579-AD71

DEPARTMENT OF AGRICULTURE (USDA)

Animal and Plant Health Inspection Service (APHIS)

Final Rule Stage

172. Importation of Poultry and Poultry Products From Regions Affected With Highly Pathogenic Avian Influenza

Legal Authority: 7 U.S.C. 1622; 7 U.S.C. 8301 to 8317; 21 U.S.C. 136 and 136a; 31 U.S.C. 9701

Abstract: This rulemaking will amend the regulations concerning the importation of animals and animal products to prohibit or restrict the importation of birds, poultry, and bird and poultry products from regions that have reported the presence in commercial birds or poultry of highly pathogenic avian influenza of any subtype. This action will supplement existing prohibitions and restrictions on articles from regions that have reported the presence of Newcastle disease or highly pathogenic avian influenza subtype H5N1.

Timetable:

Action | Date | FR Cite
Interim Final Rule | 01/24/11 | 76 FR 4046
Interim Final Rule Comment Period End | 03/25/11
Interim Final Rule Comment Period Reopened | 05/03/11 | 76 FR 24793
Interim Final Rule Comment Period Reopened End | 05/18/11
Interim Final Rule Comment Period Reopened | 06/12/12 | 77 FR 34783
Interim Final Rule Comment Period Reopened End | 07/12/12
Final Rule | 02/00/15

Regulatory Flexibility Analysis Required: Yes.

Agency Contact: Javier Vargas, Case Manager, National Center for Import and Export, VS, Department of Agriculture, Animal and Plant Health Inspection Service, 4700 River Road, Unit 38, Riverdale, MD 20737-1231, Phone: 301 851-3300.

RIN: 0579-AC36

173. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles to remove the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11
Final Rule | 12/00/14

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD28

174. Importation of Beef From a Region in Brazil

Legal Authority: 7 U.S.C. 450; 7 U.S.C. 7701 to 7772; 7 U.S.C. 7781 to 7786; 7 U.S.C. 8301 to 8317; 21 U.S.C. 136 and 136a; 31 U.S.C. 9701

Abstract: This rulemaking will amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States, provided certain conditions are met. This action will provide for the importation of beef from the designated region in Brazil into the United States while continuing to protect the United States against the introduction of foot-and-mouth disease.

Timetable:

Action | Date | FR Cite
NPRM | 12/23/13 | 78 FR 77370
NPRM Comment Period End | 02/21/14
Final Rule | 04/00/15

Regulatory Flexibility Analysis Required: Yes.

Agency Contact: Silvia Kreindel, Senior Staff Veterinarian, Regionalization Evaluation Services Staff, NCIE, VS, Department of Agriculture, Animal and Plant Health Inspection Service, 4700 River Road, Unit 38, Riverdale, MD 20737-1231, Phone: 301 851-3313.

RIN: 0579-AD41

175. Treatment of Firewood and Spruce Logs Imported From Canada.

Legal Authority: 7 U.S.C. 450; 7 U.S.C. 7701 to 7772; 7 U.S.C. 7781 to 7786; 21 U.S.C. 136 and 136a

Abstract: This rulemaking will amend the regulations to require firewood of all species imported from Canada, including treated lumber (furniture scraps) sold as kindling, and all spruce logs imported from Nova Scotia to be heat-treated and to be accompanied by either a certificate of treatment or an attached commercial treatment label. This action is necessary on an immediate basis to prevent the artificial spread of pests, including emerald ash borer, Asian longhorned beetle, gypsy moth, European spruce bark beetle, and brown spruce longhorn beetle to noninfested areas of the United States and to prevent further introduction of these pests into the United States.

Timetable:

Action | Date | FR Cite
Interim Final Rule | 01/00/15
Interim Final Rule Comment Period End | 03/00/15

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD60

DEPARTMENT OF AGRICULTURE (USDA)

Animal and Plant Health Inspection Service (APHIS)

Completed Actions

176. Importation of Live Dogs

Legal Authority: 7 U.S.C. 2148

Abstract: We are amending the regulations to implement an amendment to the Animal Welfare Act (AWA). The Food, Conservation, and Energy Act of 2008 added a new section to the AWA to restrict the importation of certain live dogs. Consistent with this amendment, this rule prohibits the importation of dogs, with limited exceptions, from any part of the world into the continental United States or Hawaii for purposes of resale, research, or veterinary treatment, unless the dogs are in good health, have received all necessary vaccinations, and are at least 6 months of age. This action is necessary to implement the amendment to the AWA and will help to ensure the welfare of imported dogs.

Completed:

Reason | Date | FR Cite
Final Rule | 08/18/14 | 79 FR 48653
Final Rule Effective | 11/17/14

Regulatory Flexibility Analysis Required: Yes.

Agency Contact: Gerald Rushin, Phone: 301 851-3740.

RIN: 0579-AD23

177. • Importation of Female Squash Flowers From Israel Into the Continental United States

Legal Authority: 7 U.S.C. 450; 7 U.S.C. 7701 to 7772; 7 U.S.C. 7781 to 7786; 21 U.S.C. 136 and 136a

Abstract: This rulemaking amends the regulations governing the importation of fruits and vegetables to allow the importation of female squash flowers from Israel into the continental United States. As a condition of entry, female squash flowers from Israel will be subject to a systems approach that includes requirements for pest exclusion at the production site and fruit fly trapping and monitoring. The female squash flowers must also be accompanied by a phytosanitary certificate issued by the national plant protection organization of Israel with an additional declaration that the female squash flowers have been inspected and found free of quarantine pests. This action allows for the importation of female squash flowers from Israel into the continental United States while continuing to provide protection against the introduction of quarantine pests.

Timetable:

Action | Date | FR Cite
NPRM | 05/02/13 | 78 FR 25620
NPRM Comment Period End | 07/01/13
Final Rule | 06/05/14 | 79 FR 32433
Final Rule Effective | 07/07/14

Regulatory Flexibility Analysis Required: Yes.

Agency Contact: George Balady, Senior Regulatory Policy Specialist, PPQ, Department of Agriculture, Animal and Plant Health Inspection Service, 4700 River Road, Unit 133, Riverdale, MD 20737-1236, Phone: 301 851-2240.

RIN: 0579-AD72

BILLING CODE 3410-34-P

DEPARTMENT OF AGRICULTURE (USDA)

Final Rule Stage

Rural Housing Service (RHS)

178. Guaranteed Single-Family Housing

Legal Authority: 5 U.S.C. 301; 7 U.S.C. 1989; 42 U.S.C. 1480

Abstract: The Guaranteed Single-Family Housing Loan Program interim final rule encourages new residential construction in rural areas. The new rule provides for a “construction-to-permanent financing” process. Lenders will be able to obtain a loan note guarantee when construction commences, in a “single close” transaction, rather than first obtaining short-term construction financing and then later obtaining the guaranteed loan. The new rule streamlines the financing of building new homes. The interim final rule also expands the types of lenders who are eligible to participate, increasing the reach of the program to small community banks in remote areas and to credit unions with memberships who are teachers as well as other groups. The rule change will allow participation by any lending entity supervised and regulated by the Federal Deposit Insurance Corporation, the National Credit Union Administration, the Office of the Comptroller of the Currency, the Federal Reserve Banks, or the Federal Housing Finance Board. Currently, these entities may not be eligible lenders.

Timetable:

Action | Date | FR Cite
NPRM | 10/28/11 | 76 FR 66860
NPRM Comment Period End | 12/27/11
Interim Final Rule | 12/09/13 | 78 FR 73927
Interim Final Rule Effective | 12/01/14
Final Rule | 12/00/15

Regulatory Flexibility Analysis Required: Yes.

Agency Contact: Joaquin Tremols, Acting Director, Single-Family Housing Guaranteed Loan Division, Department of Agriculture, Rural Housing Service, 1400 Independence Avenue SW., STOP 0784, Washington, DC 20250, Phone: 202 720-1465, Fax: 202 205-2476, Email: joaquin.tremols@wdc.usda.gov.

RIN: 0575-AC18

BILLING CODE 3410-XV-P

DEPARTMENT OF AGRICULTURE (USDA)

Food and Nutrition Service (FNS)

Proposed Rule Stage

179. Child and Adult Care Food Program: Meal Pattern Revisions Related to the Healthy, Hunger-Free Kids Act of 2010

Regulatory Plan: This entry is Seq. No. 15 in part II of this issue of the Federal Register.

RIN: 0584-AE18

DEPARTMENT OF AGRICULTURE (USDA)

Food and Nutrition Service (FNS)

Final Rule Stage

180. Child Nutrition Programs: Local School Wellness Policy Implementation Under the Healthy, Hunger-Free Kids Act of 2010

Regulatory Plan: This entry is Seq. No. 18 in part II of this issue of the Federal Register.

RIN: 0584-AE25

BILLING CODE 3410-30-P

DEPARTMENT OF AGRICULTURE (USDA)

Food Safety and Inspection Service (FSIS)

Completed Actions

181. Mandatory Inspection of Fish of the Order Siluriformes and Products Derived from Such Fish

Regulatory Plan: This entry is Seq. No. 21 in part II of this issue of the Federal Register.

RIN: 0583-AD36

DEPARTMENT OF AGRICULTURE (USDA)

Food Safety and Inspection Service (FSIS)

182. Change in Accredited Lab Fees

Legal Authority: 21 U.S.C. 601, et seq.; 21 U.S.C. 451, et seq.; 7 U.S.C. 138

Abstract: The Food Safety Inspection Service (FSIS) proposed to amend its regulations to change the fees it charges for the accreditation and the maintenance of accreditation of non-Federal laboratories for the FSIS Accredited Lab Program (ALP). Currently, the Agency charges a flat annual fee of $5,000 for each accreditation or maintenance of accreditation. Laboratories that participate in FSIS' ALP can receive accreditation in one to six analyte classes. FSIS proposed to charge laboratories $5,000 per year for the first analyte class accreditation or maintenance (as it currently does), but to reduce the charges to $2,900 per year for the second, and $2,100 per year for each additional analyte class accreditation or maintenance of accreditation.

Completed:

Reason | Date | FR Cite
NPRM | 04/21/14 | 79 FR 22052
Final Action | 09/19/14 | 79 FR 56235
Final Action Effective | 11/18/14

Regulatory Flexibility Analysis Required: Yes.

Agency Contact: Charles Williams, Phone: 202 720-5627, Fax: 202 690-0486, Email: charles.williams@fsis.usda.gov.

RIN: 0583-AD55

BILLING CODE 3410-DM-P

DEPARTMENT OF AGRICULTURE (USDA)

Forest Service (FS)

Proposed Rule Stage

183. Management of Surface Activities Associated With Outstanding Mineral Rights on National Forest System Lands

Legal Authority: EPA 1992

Abstract: Close to 11,000,000 acres (approximately 6 percent) of National Forest System (NFS) lands overlie severed (split) mineral estates owned by a party other than the Federal Government. Over 75 percent of these lands are in the Eastern Region (Forest Service Regions 8 and 9). There are two kinds of severed mineral estates, generally known as “private rights”: reserved and outstanding. Reserved mineral rights are those retained by a grantor in a deed conveying land to the United States. Outstanding mineral rights are those owned by a party other than the surface owner at the time the surface was conveyed to the United States. Because these are non-Federal mineral interests, the U.S. Department of Interiors Bureau of Land Management has no authority for or role in managing development activities associated with such interests. States have the authority and responsibility for regulating development of the private mineral estate.

Various Secretary's Rules and Regulations (years of 1911, 1937, 1938, 1939, 1947, 1950, and 1963) and Forest Service regulations at 36 CFR 251.15 provide direction for the use of NFS lands for mineral development activities associated with the exercise of reserved mineral rights. These existing rules for reserved minerals development activities also include requirements for protection of NFS resources.

Currently, there are no formal regulations governing the use of NFS lands for activities associated with the exercise of outstanding mineral rights underlying those lands. The Energy Policy Act of 1992, section 2508, directed the Secretary of Agriculture to: apply specified terms and conditions to surface-disturbing activities related to development of oil and gas on certain lands with outstanding mineral rights on the Allegheny National Forest, and promulgate regulations implementing that section.

The Forest Service initiated rulemaking for the use of NFS lands for development activities associated with both reserved and outstanding minerals rights with an Advance Notice of Proposed Rulemaking (ANPRM) in the Federal Register on December 29, 2008. Comments from the public in response to the ANPRM conveyed a high level of concern about the broad scope of the rule, along with a high level of concern about effects of a broad rule on small businesses and local economies.

Timetable:

Action | Date | FR Cite
ANPRM | 12/29/08 | 73 FR 79424
ANPRM Comment Period End | 02/27/09
NPRM | 03/00/15

Regulatory Flexibility Analysis Required: Yes.

Agency Contact: LaRenda C. King, Assistant Director, Directives and Regulations, Department of Agriculture, Forest Service, ATTN: ORMS, D&R Branch, 1400 Independence Avenue SW., Washington, DC 20250-0003, Phone: 202 205-6560, Email: larendacking@fs.fed.us.

RIN: 0596-AD03

DEPARTMENT OF AGRICULTURE (USDA)

Forest Service (FS)

Final Rule Stage

184. Ski Area—D Clauses: Resource and Improvement Protection, Water Facilities and Water Rights

Legal Authority: FSH 2709.11

Abstract: On November 8, 2011, the Forest Service issued an interim directive (FSH 2709.11-2011-3) including a revised clause to address the ownership of water rights developed on National Forest System (NFS) lands for use by ski area permit holders. On March 6, 2012, a second interim directive (FSH 2709.11-2012-1) for the revised ski area water rights clause was issued, superseding the 2011 version. The National Ski Areas Association filed a lawsuit in the United States District Court for the District of Colorado on March 12, 2012, opposing use of the revised clause. On December 19, 2012, the court ruled that the Forest Service had erred in not providing an opportunity for notice and comment on the interim directive and that the agency needed to conduct a Regulatory Flexibility Act analysis of the impact of the directive on small business entities that hold ski area permits. The court vacated the interim directive and enjoined enforcement of the 2011 and 2012 clauses in permits containing them.

The proposed directive would address the development of water facilities on NFS lands; the ownership of preexisting and future water rights; mechanisms to ensure sufficient water remains for ski areas on NFS lands; and measures necessary to protect NFS lands and resources.

The Forest Service published the proposed ski area water rights clause in the Federal Register for public notice and comment. To identify interests and views from a diverse group of stakeholders regarding a revised water rights clause for ski areas, the Forest Service held four stakeholder meetings in April 2013. The input from the stakeholder sessions will be considered in the development of a final water rights clause for ski areas.

Timetable:

Action | Date | FR Cite
Proposed Directive | 06/23/14 | 79 FR 35513
Proposed Directive Comment Period End | 08/22/14
Final Directive | 02/00/15

Regulatory Flexibility Analysis Required: Yes.

Agency Contact: LaRenda C. King, Assistant Director, Directives and Regulations, Department of Agriculture, Forest Service, ATTN: ORMS, D&R Branch, 1400 Independence Avenue SW., Washington, DC 20250-0003, Phone: 202 205-6560, Email: larendacking@fs.fed.us.

RIN: 0596-AD14

[FR Doc. 2014-28928 Filed 12-19-14; 8:45 am]

BILLING CODE 3410-11-P